ENVIRONMENTAL PROTECTION AGENCY

[EPA-HQ-OAR-2018-0365; FRL-9979-05-OAR]

Call for Information on Adverse Effects of Strategies for Attainment and Maintenance of National Ambient Air Quality Standards

AGENCY: Environmental Protection Agency (EPA).

ACTION: Notice; call for information.

SUMMARY: The U.S. Environmental Protection Agency (EPA), Office of Air Quality Planning and Standards (OAQPS), is soliciting information to facilitate the Clean Air Scientific Advisory Committee's (CASAC) consideration of any adverse public health, welfare, social, economic, or energy effects which may result from various strategies for attainment and maintenance of national ambient air quality standards (NAAQS).

DATES: All comments and information submitted in response to this call for information should be received by the EPA by October 24, 2018.

ADDRESSES: Submit your comments and related information, identified by Docket ID No. EPA-HQ-OAR-2018-0365, to the Federal eRulemaking Portal: https://www.regulations.gov.

FOR FURTHER INFORMATION CONTACT: Ms. Robin Langdon, Office of Air Quality Planning and Standards (Mail Code C-439-02), U.S. Environmental Protection Agency, Research Triangle Park, NC 27711; telephone number: 919-541-5695; fax number 919-541-0804; or email: langdon.robin@epa.gov.

SUPPLEMENTARY INFORMATION:

I. Background Information

Sections 109(d)(2)(A) and (B) of the Clean Air Act (CAA or the Act) require appointment of an independent scientific review committee that is charged with periodically reviewing the existing air quality criteria and NAAQS and recommending any new standards and revisions of existing criteria and standards as may be appropriate. Since the early 1980s, the requirement for an independent scientific review committee has been fulfilled by the CASAC.

Sections 109(d)(2)(C)(i)-(iii) of the Act additionally require the independent scientific review committee to advise the EPA Administrator of areas in which additional knowledge is required to appraise the adequacy and basis of existing, new, or revised NAAQS; describe the research efforts necessary to provide the required information; and advise the EPA Administrator on the relative contribution to air pollution concentrations of natural as well as anthropogenic activity. Section 109(d)(2)(C)(iv) of the Act further requires the independent scientific review committee to “advise the EPA Administrator of any adverse public health, welfare, social, economic, or energy effects which may result from various strategies for attainment and maintenance of such” NAAQS. As noted in the Administrator's May 9, 2018, memorandum, “Back-to-Basics Process for Reviewing National Ambient Air Quality Standards,” ¹ these topics may include information which is not relevant to the standard-setting process,² but they provide important policy context for the public, co-regulators, and the EPA.

¹ Available at: https://www.epa.gov/sites/production/files/2018-05/documents/image2018-05-09-173219.pdf.

² The Supreme Court has held that section 109(b) “unambiguously bars cost considerations from the NAAQS-setting process.” Whitman v. Am. Trucking Associations, 531 U.S. 457, 471 (2001).

To facilitate the CASAC's consideration of such effects, the EPA requests interested parties to submit information on any adverse public health, welfare, social, economic, or energy effects which may result from various strategies for attainment and maintenance of existing, new, or revised NAAQS for consideration by the CASAC.

Interested parties are encouraged to identify all relevant information, with a particular emphasis on peer-reviewed research studies that have been published or accepted for publication and other analyses in the following categories: Assessments of the impacts of various types of strategies for attainment and maintenance of NAAQS, including requirements for stationary sources, area sources, and/or mobile sources of emissions; evaluations of the effects of permitting requirements, both new source review and prevention of significant deterioration requirements, on economic growth and other relevant effects listed; examinations of the potential impacts of nonattainment status, including the effects on overall economic growth and employment; and evaluations of potential impacts on public health, public welfare, energy production and consumption, and other social effects of interest.

The EPA also seeks information on inter-pollutant trade-offs from strategies to attain and maintain existing, new or revised NAAQS, and information on distributional effects, including changes in exposures and risk, resulting from alternate attainment strategies for NAAQS, as well as other information related to adverse public health, welfare, social, economic, or energy effects that may result from attainment of existing, new or revised NAAQS. Some aspects of this information may also be relevant to the EPA's review of the air quality criteria, which section 108(a)(2) of the Act describes as reflecting “the latest scientific knowledge useful in indicating the kind and extent of all identifiable effects on public health or welfare which may be expected from the presence of such pollutant in the ambient air, in varying quantities.” Section 109(d)(1) of the Act requires that the EPA review these criteria periodically. To ensure this statutory requirement is met for ozone and other photochemical oxidants, elsewhere in today's Federal Register we are announcing initiation of a new periodic review of the criteria for ozone and other photochemical oxidants and issuing a call for information that would facilitate the EPA's review of these criteria.

II. How To Submit Information to the Docket

Submit information, identified by Docket ID No. EPA-HQ-OAR-2018-0365, to the Federal eRulemaking Portal: https://www.regulations.gov. Follow the online instructions for submissions. Once submitted, information cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the Web, Cloud, or other file sharing system). For additional submission methods, the full EPA public comment policy, information about CBI or multimedia submissions, and general guidance on making effective comments, please visit https://www2.epa.gov/dockets/commenting-epa-dockets.

When submitting comments, remember to:

• Identify the action by docket number and other identifying information (subject heading, Federal Register date and page number).

• Describe any assumptions and provide any technical information and/or data that you used.

• Provide specific examples to illustrate your concerns, and suggest alternatives.

• Explain your views as clearly as possible, avoiding the use of profanity or personal threats.

• Make sure to submit your comments by the comment period deadline identified.

When considering submitting CBI, do not submit this information to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

Dated: June 12, 2018.
Panagiotis Tsirigotis,
Director, Office of Air Quality Planning and Standards.

[FR Doc. 2018-13718 Filed 6-25-18; 8:45 am]

BILLING CODE 6560-50-P